DEPARTMENT OF HEALTH AND HUMAN SERVICES

Health Resources and Services Administration

HIV/AIDS Bureau Policy Notice 11-01 (Replaces Policy Notice 99-02)

AGENCY: Health Resources and Services Administration (HRSA), HHS.

ACTION: Final Notice.

SUMMARY: The Health Resources and Services Administration, HIV/AIDS Bureau (HAB) Policy Notice 99-02 established policies for the use of Ryan White HIV/AIDS Program funds authorized under Title XXVI of the Public Health Service (PHS) Act, for housing referral services and short-term or emergency housing needs. Amendment #1 to Policy Notice 99-02, effective March 27, 2008, modified Policy Notice 99-02 by imposing a 24-month cumulative cap on short-term and emergency housing assistance. The limit on benefits would have taken effect on March 27, 2010, and would have impacted individuals who were users of the funds for housing assistance. HRSA received comments from the public concerning the potential impact of the cap and the threat to the ability of clients receiving Ryan White HIV/AIDS Program funded services to receive housing services. In response, HRSA's Administrator directed that Policy Notice 99-02 Amendment #1 be rescinded, as published in the February 10, 2010, Federal Register notice, Volume 75, Issue 27, pages 6672-6673. In addition, the notice indicated that HRSA was conducting a comprehensive review of the Housing Policy. As a result of a thorough vetting and comprehensive review, HRSA is issuing a final notice of Housing Policy Notice 11-01 which replaces HAB Policy Notice 99-02, effective May 12, 2011.

SUPPLEMENTARY INFORMATION: On February 10, 2010, HRSA rescinded Amendment #1 to Policy Notice 99-02 effective immediately, as published in the Federal Register. Grantees were advised that HRSA did not require enforcement of the cap for beneficiaries that might have been at or near the 24-month limit on receipt of funds used for short-term and emergency housing assistance. HRSA announced that a comprehensive review of the Housing Policy would continue and HRSA's Administrator would continue to consider all aspects of the policy.

Comprehensive Review of the Housing Policy

HRSA received numerous letters from consumer and housing advocates expressing their concerns regarding the potential effect on individuals reaching the 24-month cap to receive funding used for housing services. HRSA's Administrator responded to these concerns by conducting face-to-face meetings with housing advocates, consumers, and HIV/AIDS stakeholders/organizations. In addition, Ryan White HIV/AIDS Program Grantees were asked to submit their views on the Housing Policy's lifetime 24-month cap per household. Consequently, HAB collaborated with other federal agencies and discussed mutual concerns with the Assistant Secretary of the U.S. Department of Housing and Urban Development and the Director of Housing Opportunities for Persons with AIDS.

HRSA/HAB Policy Considerations and Recommendations

HAB's Associate Administrator solicited comments from all Part A, B and D Grantees asking them to review five principles that were under consideration for the revised Housing Policy and to provide comments, concerns, and additional considerations by May 21, 2010. The five principles were as follows:

1. Strengthen linkages to the U.S. Department of Housing and Urban Development's (HUD) programs, as well as state and local housing resources to provide longer-term assistance;

2. Minimize housing disruptions for people living with HIV/AIDS;

3. Integrate housing with a broader range of supports that collectively support individuals in maintaining their health;

4. Provide flexibility to respond to exceptional circumstances; and

5. Minimize the burden on Ryan White providers who are responsible for assisting HAB to implement any housing policy.

There were four responses—two from Ryan White HIV/AIDS Program Part A Grantees, one from a Part B Grantee and one letter from the National AIDS Housing Coalition's Executive Director. These responses supported the extension of funding for housing services beyond the 24-month cap due to exceptions, i.e., “Grantees allowing transitional housing of greater than 24 month in duration must review their decision periodically to assess whether this standard serves as a significant barrier to access to housing services for new clients.”; “It is recognized that a transitional housing limit of 24 month may be a significant barrier for certain populations, for example a multiply-diagnosed client who has been in housing before, but has lapsed and needs housing support while in treatment and recovery.”

Other considerations included: (1) HRSA/HAB consideration to promote decision making at the jurisdictional level based on needs assessment, consistent with the Ryan White HIV/AIDS Program legislative mandates, and (2) acknowledging the changes in the 2006 Ryan White HIV/AIDS Program reauthorization that limited funding for support services to 25 percent of available service dollars. As a result of this comprehensive review, HAB recommended issuance of a revised Housing Policy.

HRSA HAB Policy Notice 11-01 (Replaces 99-02)

Document Title: The Use of Ryan White HIV/AIDS Program Funds for Housing Referral Services and Short-term or Emergency Housing Needs.

The following policy establishes guidelines for allowable housing-related expenditures under the Ryan White HIV/AIDS Program. The purpose of all Ryan White HIV/AIDS Program funds is to ensure that eligible HIV-infected persons and families gain or maintain access to medical care.

A. Funds received under the Ryan White HIV/AIDS Program (Title XXVI of the Public Health Service Act) may be used for the following housing expenditures:

i. Housing referral services defined as assessment, search, placement, and advocacy services must be provided by case managers or other professional(s) who possess a comprehensive knowledge of local, state, and federal housing programs and how these programs can be accessed; or

ii. Short-term or emergency housing defined as necessary to gain or maintain access to medical care and must be related to either:

a. Housing services that include some type of medical or supportive service: including, but not limited to, residential substance treatment or mental health services (not including facilities classified as an Institution for Mental Diseases under Medicaid), residential foster care, and assisted living residential services; or

b. Housing services that do not provide direct medical or supportive services, but are essential for an individual or family to gain or maintain access and compliance with HIV-related medical care and treatment; necessity of housing services for purposes of medical care must be certified or documented.

B. Short-term or emergency assistance is understood as transitional in nature and for the purposes of moving or maintaining an individual or family in a long-term, stable living situation. Thus, such assistance cannot be permanent and must be accompanied by a strategy to identify, relocate, and/or ensure the individual or family is moved to, or capable of maintaining, a long-term, stable living situation.

C. Housing funds cannot be in the form of direct cash payments to recipients or services and cannot be used for mortgage payments.

D. The Ryan White HIV/AIDS Program must be the payer of last resort. In addition, funds received under the Ryan White HIV/AIDS Program must be used to supplement, but not supplant funds currently being used from local, state, and federal agency programs. Ryan White HIV/AIDS Program Grantees must be capable of providing HAB with documentation related to the use of funds as the payer of last resort and the coordination of such funds with other local, state, and federal funds.

E. Ryan White HIV/AIDS Program Grantees and local decision making planning bodies, i.e. Part A and Part B, are strongly encouraged to institute duration limits to provide transitional and emergency housing services. HUD defines transitional housing as 24 month, and HRSA/HAB recommends that grantees consider using HUD's definition as their standard.

F. Grantees must develop mechanisms to allow newly identified clients access to housing services.

G. Upon request, Ryan White HIV/AIDS Program Grantees must provide HAB with an individualized written housing plan, consistent with this Housing Policy, covering each client receiving short term, transitional and emergency housing services.

H. Housing-related expenses are limited to Part A, Part B, and Part D of the Ryan White HIV/AIDS Program and are not allowable expenses under Part C. Part A and Part B Grantees must adhere to the Core Medical Services requirement; only 25 percent of Ryan White HIV/AIDS Program funding may be used for support services without a waiver.

Dated: May 5, 2011.
Mary K. Wakefield,
Administrator.

[FR Doc. 2011-11649 Filed 5-11-11; 8:45 am]

BILLING CODE 4165-15-P